DEPARTMENT OF TRANSPORTATION

Federal Aviation Administration

14 CFR Parts 415, 417, 431, 435

Policy on Requiring Disclosure of Payload Contents

AGENCY: Federal Aviation Administration (FAA), Department of Transportation (DOT).

ACTION: Notification of policy.

SUMMARY: The FAA announces a clarification of the FAA's Office of Commercial Space Transportation (AST) policy regarding the review of payloads to be launched or reentered under an FAA license. Given the increasing complexity of payloads on the growing volume of FAA-licensed launches or reentries, the FAA is updating its payload review policy to require applicants for a payload review to disclose the contents and composition of all payloads, including those of all hosted payloads.

DATES: Effective March 14, 2024.

FOR FURTHER INFORMATION CONTACT: Mr. Daniel Murray, (202) 267-9237.

SUPPLEMENTARY INFORMATION:

I. Background

The Commercial Space Launch Act of 1984, as codified and amended at 51 U.S.C.—Commercial Space Transportation, ch. 509, Commercial Space Launch Activities, 51 U.S.C. 50901-50923 (the Act), authorizes the DOT and the FAA, through delegations, to oversee, license, and regulate commercial launch and reentry activities, and the operation of launch and reentry sites as carried out by United States (U.S.) citizens or within the U.S. Consistent with the authority conferred under 51 U.S.C. Chapter 509, the FAA reviews all payloads to be launched or reentered under an FAA license to determine the effect of the payload's launch or reentry on public health and safety, safety of property, U.S. national security or foreign policy interests, or international obligations of the U.S. Applicants seeking a vehicle operator license under 14 CFR part 450 must receive a favorable payload determination under § 450.43 if they propose to carry a payload on their vehicle. Operators seeking to launch or reenter a payload under a legacy license ¹ (14 CFR parts 415, 417, 431, or 435) must receive a favorable payload determination under subpart D of part 415 or 431.

¹ The FAA refers to licenses issued under these parts as “legacy licenses,” as they will be removed from the CFR on March 10, 2026. After that time, all operators must demonstrate compliance with part 450. See 85 FR 79566.

Consistent with the authority conferred under 51 U.S.C. Chapter 509 to the DOT and to the FAA by delegation, the FAA reviews all payloads to be launched or reentered under an FAA license to ensure that the launch or reentry of the proposed payload will not jeopardize public health and safety, safety of property, U.S. national security or foreign policy interests, or international obligations of the United States.

In this context, hosted payloads are space-bound items included on a launch vehicle, reentry vehicle, or payload that use available power, mass, or space of the primary payload or launch/reentry vehicle, and that may be owned by a party other than the primary payload owner or launch/reentry vehicle operator.

Subpart D of parts 415 and 431 detail the information that an applicant must provide to enable the FAA to render a payload determination in accordance with §§ 415.59 and 431.57, respectively. These information requirements include details such as the payload's physical dimensions and weight, ownership or operation, orbital parameters, intended operations, and the identification and quantification of any hazardous or radioactive materials. Each of these requirements helps the FAA, and its Federal partners who review the payload during interagency consultation, to assess the effect of launching or reentering the proposed payload in accordance with § 50904(c).

Inherent to this assessment is a complete understanding of what exactly the applicant intends to launch or reenter. Given the growing cadence of FAA-licensed launches and reentries carrying a growing volume of increasingly complex payloads, the FAA is clarifying its payload review policy to ensure the completeness of its assessment under § 50904(c).

II. The Policy

The FAA is updating its payload review policy to clarify that applicants for a payload determination must disclose the contents and composition of all payloads. Specifically, the FAA will require that applicants for a payload determination under parts 415, 431, 435, or 450 provide a complete manifest of all payload contents and compositions, including those of all hosted payloads.

James A. Hatt,
Space Policy Division Manager, Office of Commercial Space Transportation.

[FR Doc. 2024-05384 Filed 3-13-24; 8:45 am]

BILLING CODE P